DEPARTMENT OF THE INTERIOR

Bureau of Land Management

[CA-190-1610-DM-024B]

Notice of Intent To Participate in a Multi-Jurisdictional Land-Use Planning Effort, With Environmental Impact Analysis, for the Coast Dairies Property, Santa Cruz County, CA, and Prepare an Amendment to the Hollister Resource Management Plan

AGENCY: Bureau of Land Management.

ACTION: Notice of intent to participate in a multi-jurisdictional land-use planning effort, with environmental impact analysis, for the Coast Dairies Property, Santa Cruz County, California, and prepare an amendment to the Hollister Resource Management Plan.

SUMMARY: The U.S. Department of the Interior's Bureau of Land Management (BLM) provides formal notice that it will participate in a multi-jurisdictional land-use planning effort with the California Department of Parks and Recreation (DPR) and the Trust for Public Land (TPL), a California non-profit public corporation. The planning effort is being conducted by the TPL for the Coast Dairies Property located in northern Santa Cruz County, California. As part of this planning effort, the BLM will prepare an amendment to the Hollister Resource Management Plan (RMP). The RMP amendment will be conducted in order to assess the feasibility of transferring part or all of the property to BLM, or BLM and DPR, for joint management between BLM and DPR, and to include the implementation of the final planning decision, if appropriate, under the Hollister RMP. This planning effort will include the preparation of a companion environmental impact analysis. This notice also announces the first public scoping meeting associated with the planning effort and that subsequent meetings will be held.

DATES: A scoping meeting will be held beginning at 10 a.m., on March 10, 2001, at the Loudon Nelson Community Center Auditorium, 301 Center Street, Santa Cruz, California. Written comments will be accepted on topics related the scoping meeting until April 10, 2001. Subsequent meetings will be announced in regional and local news media and the webpages listed below, as these dates are established. At this time, the draft plan and the BLM's draft Hollister RMP amendment are anticipated to be available for public review and comment in summer 2002, and the final plan and proposed Hollister RMP amendment will be completed by winter 2002. It is anticipated that notice of a Record of Decision and the final Hollister RMP amendment will be published in the Federal Register in winter 2002/2003.

ADDRESSES: Comments should be sent to the Field Manager, USDI Bureau of Land Management, 20 Hamilton Court, Hollister, CA 95023, ATTN: Coast Dairies Planning Project

FOR FURTHER INFORMATION CONTACT: Rick Hanks, BLM, at (831) 630-5036.

SUPPLEMENTARY INFORMATION: The Bureau of Land Management and the California Department of Parks and Recreation intend to cooperate and collaborate with the Trust for Public Land in a land-use planning effort that will result in the development of the Long-Term Resource Protection and Use Plan (plan) for the Coast Dairies Property. The Coast Dairies Property (property) is approximately 7,000 acres located in northern Santa Cruz County, California. The property is currently held by the Coast Dairies & Land Co. (CDLC)., which in turn is owned by TPL. The purpose of the plan is to assess the value of the natural, cultural, and social resource attributes and develop management strategies that can best balance and protect the identified values.

TPL is now developing a Long-Term Resource Protection and Use Plan for the Coast Dairies property. It is the intent of this planning effort that, upon successful completion of the plan and the planning process, the property would be transferred to BLM and DPR for joint long-term stewardship for the benefit of the American people, provided that the completed plan is consistent with the laws and authorities of each of the two public agencies. This cooperative undertaking provides the opportunity for the two public agencies, BLM and DPR, to be involved from the beginning with the planning effort associated with a unique parcel of private land. BLM will prepare an amendment to the Hollister RMP in order to ensure that the Long-Term Resource Protection and Use Plan process is consistent with BLM's statutory and regulatory requirements.

The plan will include information necessary for the planning documents of each of the two public agencies. This information will assist the agencies' preparation of environmental documents that meet the requirements of the National Environmental Protection Act (NEPA) and the California Environmental Quality Act (CEQA) to support a final decision of whether or not to accept the property and adoption of the agencies' respective management plans. The BLM and DPR will each serve as the lead agency in their respective NEPA/CEQA processes.

TPL and CDLC have entered into a Memorandum of Understanding (MOU), completed in August 8, 2000, with BLM and DPR that commits these agencies to engage in the Coast Dairies planning process. The MOU also indicates that if BLM and DPR were to take the property, the plan would be accepted by the agencies as conditions or restrictions that would protect the land and guide the agencies' long-term policy for the property.

The plan will be prepared consistent with the following vision statement:

It is the purpose of the Coast Dairies Steering Committee to protect and preserve in perpetuity those intrinsic natural and pastoral qualities that make this 7,000-acre± coastal area important to the people of the region, the local community, the state, and the nation.

Sound long-term stewardship of this land will be achieved through cost-effective, adaptive management of the property designed to conserve and enhance its biological, open space and agricultural values, restore wetland riparian, native grassland, forested and other sensitive habitats, and provide compatible recreation.

Adaptive management—continual monitoring of the property's resources as the basis for decisions related to the land's use—will allow for responsible stewardship of the natural and economic resources of the property. It will also create valuable opportunities for education in the field of integrating traditional economic and recreational activities, including sustainable coastal agriculture, with programs designed to protect native biodiversity and other natural landscape values.

In addition to adherence to this vision statement, the plan will generally be designed in accordance with the following conservation objectives:

• Conserve and enhance the biological and open space values afforded by the resources, size, and connectivity of the property;

• Restore key resources such as stream, riparian, and watershed habitats and coastal prairies;

• Protect natural forested areas from commercial harvest, except to the extent determined necessary or desirable for public safety or the health of the forest;

• Create opportunities for public access for recreation and enjoyment that maximize the potential for linkages with nearby lands and are compatible with protection of existing uses and natural resource values;

• Maintain and enhance the feasibility of continued agricultural use in ways that are consistent with protection of natural resource values; and,

• Allow for other economic uses of the land, provided they are consistent with overriding biological and open space conservation needs and objectives.

During the planning process, alternatives will be developed that will identify a reasonable range of options for protecting resources while allowing certain specified sustainable uses. BLM and DPR will identify/cooperating agencies for the environmental analysis portion of the planning effort. In addition, the public will be invited to participate in the scoping process, review of the draft and proposed plans, and attend public comment meetings.

Herrick E. Hanks,
Assistant Field Manager, Hollister Field Office.

[FR Doc. 01-6065 Filed 3-8-01; 8:45 am]

BILLING CODE 3710-FS-M